DEPARTMENT OF TRANSPORTATION

Federal Aviation Administration

14 CFR Part 39

[Docket No. 2001-CE-42-AD]

RIN 2120-AA64

Airworthiness Directives; Cessna Aircraft Company P206, TP206, TU206, U206, 207, T207, 210, P210, and T210 Series Airplanes

AGENCY: Federal Aviation Administration, DOT.

ACTION: Notice of proposed rulemaking (NPRM).

SUMMARY: This document proposes to adopt a new airworthiness directive (AD) that would apply to certain Cessna Aircraft Company (Cessna) P206, TP206, TU206, U206, 207, T207, 210, P210, and T210 series airplanes. This proposed AD would require you to visually inspect certain horizontal stabilizer attachment reinforcement brackets for the existence of seam welds and replace any reinforcement bracket found without seam welds. This proposed AD authorizes the pilot to check the logbooks to determine whether one of the affected horizontal stabilizer attachment reinforcement brackets is installed. This proposed AD is the result of a report that certain parts were manufactured without seam welds. The actions specified by this proposed AD are intended to detect and replace structurally deficient horizontal stabilizer attachment brackets. Continued use of such brackets could result in structural failure of the horizontal stabilizer with reduced or loss of control of the airplane.

DATES: The Federal Aviation Administration (FAA) must receive any comments on this proposed rule on or before February 11, 2002.

ADDRESSES: Submit comments to FAA, Central Region, Office of the Regional Counsel, Attention: Rules Docket No. 2001-CE-42-AD, 901 Locust, Room 506, Kansas City, Missouri 64106. You may view any comments at this location between 8 a.m. and 4 p.m., Monday through Friday, except Federal holidays.

You may get service information that applies to this proposed AD from Cessna Aircraft Company, Product Support, P.O. Box 7706, Wichita, Kansas 67277; telephone: (316) 517-5800; facsimile: (316) 942-9006. You may also view this information at the Rules Docket at the address above.

FOR FURTHER INFORMATION CONTACT: Al Phillips, Aerospace Engineer, Wichita Aircraft Certification Office, FAA, 1801 Airport Road, Mid-Continent Airport, Wichita, Kansas 67209; telephone: (316) 946-4116; facsimile: (316) 946-4407.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule.

You may view all comments we receive before and after the closing date of the rule in the Rules Docket. We will file a report in the Rules Docket that summarizes each contact we have with the public that concerns the substantive parts of this proposed AD.

How Can I Be Sure FAA Receives My Comment?

If you want FAA to acknowledge the receipt of your comments, you must include a self-addressed, stamped postcard. On the postcard, write “Comments to Docket No. 2001-CE-42-AD.” We will date stamp and mail the postcard back to you.

Discussion

What Events Have Caused This Proposed AD?

Cessna notified FAA of a defect in the manufacturing of the horizontal stabilizer attachment reinforcement brackets. Cessna manufactured reinforcement brackets without seam welds on certain Cessna Model 206H and T206H airplanes. AD 2001-09-06, Amendment 39-12211, (66 FR 21278, April 30. 2001), addresses these airplanes. The seam welds help provide the required structural integrity for the horizontal stabilizer attachment bracket.

Since the issuance of AD 2001-09-06, Cessna determined that certain Model P206, TP206, TU206, U206, 207, T207, 210, P210, and T210 series airplanes may have had horizontal stabilizer attachment reinforcement brackets (part number 1232624-1) without seam welds installed as replacement parts. Cessna shipped these brackets from February 27, 1998, through March 17, 2000.

What Are the Consequences if the Condition Is Not Corrected?

This condition, if not corrected, could result in structural failure of the horizontal stabilizer with reduced or loss of control of the airplane.

Is There Service Information That Applies to This Subject?

Cessna has issued Service Bulletin SEB00-10, dated November 6, 2000.

What Are the Provisions of This Service Information?

The service bulletin includes procedures for:

—Visually inspecting the right and left horizontal stabilizer attachment reinforcement brackets for the existence of seam welds along the lower inboard and outboard wall/flange; and

—Removing and replacing the horizontal stabilizer assemblies with new parts.

The FAA's Determination and an Explanation of the Provisions of This Proposed AD

What Has FAA Decided?

After examining the circumstances and reviewing all available information related to the incidents described above, we have determined that:

—The unsafe condition referenced in this document exists or could develop on other Cessna P206, TP206, TU206, U206, 207, T207, 210, P210, and T210 series airplanes of the same type design;

—The actions specified in the previously-referenced service information should be accomplished on the affected airplanes; and

—AD action should be taken in order to correct this unsafe condition.

What Would This Proposed AD Require?

This proposed AD would require you to incorporate the actions in the previously-referenced service bulletin.

What Are the Differences Between the Service Information and This Proposed AD?

Cessna requires you to inspect and, if necessary, replace the horizontal stabilizer attachment reinforcement brackets, part number 1232624-1, within 20 hours time-in-service (TIS), not to exceed 30 days, of operation. We are proposing a requirement that you inspect and, if necessary, replace the horizontal stabilizer attachment reinforcement brackets, part number 1232624-1, within 50 hours TIS of operation after the effective date of the proposed AD.

We do not have justification to require this action within 20 hours TIS. Compliance times such as this are utilized when we have identified an urgent safety of flight situation. We believe that 50 hours TIS will give the owners/operators of the affected airplanes enough time to have the proposed actions accomplished without compromising the safety of the airplanes.

Cost Impact

How Many Airplanes Would This Proposed AD Impact?

We estimate that this proposed AD affects 144 airplanes in the U.S. registry.

What Would Be the Cost Impact of This Proposed AD on Owners/Operators of the Affected Airplanes?

We estimate the following costs to accomplish the proposed inspection:

Labor cost | Parts cost | Total cost per airplane | Total cost on U.S. operators
2 workhours × $60 = $120 | Not applicable | $120 | $120 × 144 = $17,280.

We estimate the following costs to accomplish any necessary replacements that would be required based on the results of the proposed inspection. We have no way of determining the number of airplanes that may need such replacement:

Labor cost | Parts cost | Total cost per airplane
24 workhours to replace both brackets × $60 = $1,440 | $135 for both the right and left bracket | $1,440 + $135 = $1,575.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Cessna Aircraft Company: Docket No. 2001-CE-42-AD

(a) What airplanes are affected by this AD? This AD affects the following airplane models and serial numbers that are certificated in any category:

Model | Serial Nos.
P206C and TP206C | P206-0420 through P206-0519.
P206D and TP206D | P206-0520 through P206-0603.
P206E and TP206E | P20600604 through P20600647, and P206-0001.
U206C and TU206C | U206-0915 through U206-1234.
U206D and TU206D | U206-1235 through U206-1444, U20601445 through U20601587.
U206E and TU206E | U20601588 through U20601700.
U206F and TU206F | U20601701 through U20602588, and U20602590 through U20603521.
U206G and TU206G | 676, U20602589, and U20603522 through U20607020.
207 and T207 | 20700001 through 20700362.
207A and T207A | 20700363 through 20700788.
210G | 21058819 through 21058936.
210H | 21058937 through 21059061.
210J | 21059062 through 21059199.
210K and T210K | 21059200 through 21059502.
210L and T210L | 21059503 through 21061041, and 21061043 through 21061573.
210M and T210M | 21061042, and 21061574 through 21062954.
210N and T210N | 21062955 through 21064897.
P210N | P21000001 through P21000834.
T210G | T210-0198 through T210-0307.
T210H | T210-0308 through T210-0392.
T210J | T210-0393 through T210-0454, and 21058140.

(b) Who must comply with this AD? Anyone who wishes to operate any of the above airplanes must comply with this AD.

(c) What problem does this AD address? The actions specified by this AD are intended to detect and replace structurally deficient horizontal stabilizer attachment brackets. Continued use of such brackets could result in structural failure of the horizontal stabilizer with reduced or loss of control of the airplane.

(d) What actions must I accomplish to address this problem? To address this problem, you must accomplish the following:

Actions | Compliance | Procedures
(1) Maintenance Records Check:
(i) Check the maintenance records to determine whether a horizontal stabilizer attachment reinforcement bracket, part number (P/N) 1232624-1 shipped by Cessna from February 27, 1998, through March 17, 2000, is installed. The owner/operator holding at least a private pilot certificate as authorized by section 43.7 of the Federal Aviation Regulations (14 CFR 43.7) may perform this check | Within the next 50 hours time-in-service (TIS) after the effective date of this AD, unless already accomplished | No special procedures required to check the logbook.
(ii) If, by checking the maintenance records, the owner/operator can positively show that a horizontal stabilizer attachment reinforcement bracket, P/N 1232624-1 shipped by Cessna from February 27, 1998, through March 17, 2000, is not installed, then the inspection requirement of paragraph (d)(2) and the replacement requirement of paragraph (d)(3) of this AD does not apply. You must make an entry into the aircraft records that shows compliance with this portion of the AD, in accordance with section 43.9 of the Federal Aviation Regulations (14 CFR 43.9).
(2) Inspection:
Visually inspect the right and left horizontal stabilizer attachment reinforcement brackets, part number (P/N) 1232624-1, for the existence of seam welds along both the lower inboard and outboard wall/flange | Within the next 50 hours TIS after the effective date of this AD, unless already accomplished | In accordance with the Accomplishment Instructions in Cessna Service Bulletin SEB00-10, dated November 6, 2000, and the applicable maintenance manual.
(3) Replacement:
(i) If no seam weld is found along both the lower inboard and outboard wall/flange on the right and left horizontal stabilizer attachment reinforcement bracket during the inspection required in paragraph (d)(2) of this AD, replace with a new or airworthy P/N 1232624-1 horizontal stabilizer attachment reinforcement bracket | Accomplish any necessary replacements prior to further flight after the inspection required by this AD, unless already accomplished | In accordance with the Accomplishment Instructions in Cessna Service Bulletin SEB00-10, dated November 6, 2000, and the applicable maintenance manual.
(ii) If the right and left horizontal stabilizer attachment reinforcement bracket has seam welds along both the lower inboard and outboard wall/flange, no further action is required.
(4) Installation Prohibition:
Do not install any P/N 1232624-1 horizontal stabilizer attachment reinforcement bracket (or FAA-approved equivalent part) unless the bracket: | Not applicable | Not applicable.
(i) is inspected as required in paragraph (d)(2) of this AD; and
(ii) has seam welds along both the lower inboard and outboard wall/flange

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Al Phillips, Aerospace Engineer, Wichita Aircraft Certification Office, FAA, 1801 Airport Road, Mid-Continent Airport, Wichita, Kansas 67209; telephone: (316) 946-4116; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Cessna Aircraft Company, Product Support, P.O. Box 7706, Wichita, Kansas 67277. You may view these documents at FAA, Central Region, Office of the Regional Counsel, 901 Locust, Room 506, Kansas City, Missouri 64106.

Issued in Kansas City, Missouri, on December 6, 2001.
Michael Gallagher,
Manager, Small Airplane Directorate, Aircraft Certification Service.

[FR Doc. 01-30954 Filed 12-14-01; 8:45 am]

BILLING CODE 4910-13-P